DEPARTMENT OF HEALTH AND HUMAN SERVICES

[Document Identifier: OS 4040-0018]

Agency Information Collection Request. 30-Day Public Comment Request

AGENCY: Office of the Secretary, Department of Health and Human Services (HHS).

ACTION: Notice.

SUMMARY: In compliance with the requirement of the Paperwork Reduction Act of 1995, the Office of the Secretary (OS), Department of Health and Human Services, is publishing the following summary of a proposed collection for public comment.

DATES: Comments on the ICR must be received on or before December 2, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Narmada Dacherla, Narmada.Dacherla@hhs.gov, or call (202) 430-1710. When submitting comments or requesting information, please include the document identifier 4040-0018-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: SF-428 Tangible Personal Property Report.

Type of Collection: Reinstatement of an Expired Collection.

OMB No. 4040-0018.

Abstract: Reporting on the status of Federally owned property, including disposition, is necessitated in 2 CFR part 215, the “Uniform Administrative Requirements for Grants and Agreements with Institutions of Higher Education, Hospitals, and Other Non-Profit Organizations”, and the “Uniform Administrative Requirements for Grants and Agreements with State and Local Governments”, Additionally, Public Law 106-107, the Federal Financial Assistance Management Improvement Act requires that agencies “simplify Federal financial assistance application and reporting requirements.” 31 U.S.C. 6101, Section 3.

Agencies are currently using a variety of forms to account for both federally owned and grantee owned equipment and property. During the public consultation process mandated by Public Law 106-107, grant recipients requested a standard form to help them submit appropriate property information when required. The Public Law 106-107 Post Awards Subgroup developed a new standard form, the Tangible Personal Property Report, for submission of the required data. The form consists of the cover sheet (SF-428), three attachments to be used as required: Annual Report, SF-428-A; Final Report, SF-428-B; Disposition Request/Report, SF-428-C and a Supplemental Sheet, SF-428S to provide detailed individual item information when required. The IC expires on 11/30/2024. We are seeking an extension of this information collection and a three-year clearance.

Estimated Annualized Burden Table
Type of respondent | Number of respondents | Number responses per respondent | Average burden per response (in hours) | Total burden hours
Grant Applicants | 1 | 2,000 | 1 | 2,000
Total | 1 | 2,000 | 1 | 2,000

Sherrette A. Funn,
Paperwork Reduction Act Reports Clearance Officer, Office of the Secretary.

[FR Doc. 2024-25248 Filed 10-30-24; 8:45 am]

BILLING CODE 4151-AE-P